DEPARTMENT OF THE INTERIOR

Bureau of Indian Affairs

Pueblo de Cochiti Liquor Ordinance

AGENCY: Bureau of Indian Affairs, Interior.

ACTION: Notice.

SUMMARY: This notice publishes the Pueblo de Cochiti Liquor Ordinance. This Ordinance regulates the control of, the possession of, and the sale of liquor on the Pueblo de Cochiti trust and restricted fee lands, and is in conformity with the laws of the State of New Mexico, where applicable and necessary. This Ordinance is intended to amend the original Pueblo de Cochiti Liquor Ordinance that was published in the Federal Register of September 13, 1966 and amended by publication in the Federal Register of September 30, 1982. Although this Ordinance was adopted on November 20, 2000, it does not become effective until published in the Federal Register because the failure to comply with the ordinance may result in criminal charges.

DATES: This Ordinance is effective on April 11, 2001.

FOR FURTHER INFORMATION CONTACT: Kaye Armstrong, Office of Tribal Services, 1849 C Street, NW, MS 4631-MIB, Washington, DC 20240-4001; telephone (202) 208-4400.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transaction in Indian country. The Pueblo de Cochiti Liquor Ordinance, Resolution No. 2000-032, was duly adopted by the Pueblo de Cochiti Tribal Council on November 20, 2000. The Pueblo de Cochiti, in furtherance of its economic and social goals, has taken positive steps to regulate retail sales of alcohol and use revenues to combat alcohol abuse and its debilitating effects among individuals and family members within the Pueblo de Cochiti.

This notice is being published in accordance with the authority delegated by the Secretary of the Interior to the Assistant Secretary—Indian Affairs by 209 Departmental Manual 8.1.

I certify that by Resolution No. 2000-032, the Pueblo de Cochiti Liquor Ordinance, was duly adopted by the Pueblo de Cochiti Tribal Council on November 20, 2000.

Dated: March 12, 2001.
James H. McDivitt,
Deputy Assistant Secretary—Indian Affairs (Management).

The Pueblo de Cochiti Tribal Council Liquor Ordinance, Resolution No. 2000-032, reads as follows:

This amended ordinance duly enacted this 20th day of November 2000, by the Council of the Pueblo of Cochiti, the duly authorized and recognized governing body of the Pueblo de Cochiti, a federally recognized Indian Tribe.

Whereas, the Act of Congress of August 15, 1953 (67 Stat. 586) codified at 18 U.S.C. 1161 empowers Indian tribes having appropriate jurisdiction to enact an Ordinance legalizing the introduction, sale and possession of intoxicating beverages within any area of Indian country coming within the jurisdiction of such tribe; and

Whereas, the Council of the Pueblo de Cochiti has heretofore, on May 22, 1966, enacted an ordinance legalizing the introduction, sale and possession of intoxicating beverages within the Indian country subject to the jurisdiction of the Pueblo de Cochiti, which ordinance was certified by the Secretary of the Interior and published in the Federal Register on September 13, 1966 (31 FR 11988), as required by 18 U.S.C. 1161; and

Whereas, the said ordinance was duly amended on May 26, 1981, and was certified and published in the Federal Register on September 30, 1982 (47 FR 43192), pursuant to 18 U.S.C. 1161; and

Whereas, subsequent to the 1981 amendment, the law governing regulation of liquor transactions in Indian country in New Mexico was fundamentally changed by the case of Rice v. Rehner, 463 U.S. 713 (1983) and enactment of § 60-3A-5(D), N.M.S.A. 1978, which provides:

Nothing in the Liquor Control Act applies to:

D. * * * the sale, service, possession or public consumption of alcoholic beverages by any person within the boundaries of lands over which an Indian nation, tribe or pueblo has jurisdiction if the alcoholic beverages are purchased from New Mexico wholesalers and if the sale, service, possession or public consumption of alcoholic beverages is authorized by the laws of the Indian nation, tribe or pueblo having jurisdiction over those lands and is consistent with the ordinance of the Indian nation, tribe or pueblo certified by the secretary of the interior and published in the Federal Register according to the laws of the United States.

Whereas, over the years since opening of the Cochiti Dam and Reservoir, there has been a continuous and growing problem involving disorderly conduct and excessive public consumption of alcohol in the Cochiti Dam and Reservoir area by Indians and non-Indians, which conduct has greatly increased the burdens on tribal, federal, and state law enforcement, and has seriously interfered with the development of family and other recreational uses of the Reservoir area, which misconduct cannot be effectively combated without a change in the Pueblo's liquor laws applicable to the Cochiti Reservoir area; and,

Whereas, the U.S. Army Corps of Engineers, which manages the lands and waters of the public area and project area of the Cochiti Dam and Reservoir, concurs with the need for this Amended Ordinance and has indicated its intent to promulgate its own restrictions for Cochiti Dam and Reservoir pursuant to 36 CFR part 327 to prohibit the possession and consumption of alcoholic beverages throughout the lands and waters of the public area and project area of the Cochiti Dam and Reservoir, the violation of which may give rise to prosecution by the United States.

Now, therefore, be it ordained and enacted as follows:

Section 1: The introduction, sale and possession of intoxicating beverages shall be lawful within the Indian country under the jurisdiction of the Pueblo de Cochiti, subject, however, to the following provisions:

(a) Except as set forth in (b) of this Section, and to the extent required by Federal law, such introduction, sale and possession is in conformity with the laws of the State of New Mexico;

(b) The sale of intoxicating beverages within such Indian country by any person other than the Pueblo de Cochiti shall be pursuant to license and regulations issued by the Pueblo de Cochiti Council;

(c) Except as permitted in subsection (d) the introduction, possession, consumption, sale, purchase, or use of intoxicating beverages as defined at 18 U.S.C. 1154 shall again be unlawful as provided by 18 U.S.C. 1154 and 1156 within the following location within the territorial jurisdiction of the Pueblo de Cochiti: all lands and waters encompassed by the easement granted by the Pueblo de Cochiti to the United States of America through the United States Army Corps of Engineers, United States Army Engineer District, Albuquerque, New Mexico, in connection with the Cochiti Dam and Reservoir as set forth in the Amended Easement Grant and Agreement included in the Master Plan Design Memorandum No. 13, Cochiti Lake, Rio Grande, New Mexico, U.S. Army Engineer District, Albuquerque (May 1973);

(d) This subsection shall not prohibit the transportation in a moving motor vehicle of unopened containers of intoxicating beverages, with the cap, pop top or seal intact, across the area described above; and

(e) The effect of this amended ordinance shall be to reinstate the application of 18 U.S.C. 1154 and 1156 as to all lands and waters within the public area and project area of the Cochiti Dam and Reservoir.

Section 2: The Pueblo de Cochiti Council is hereby vested with full power and authority to adopt regulations pursuant to and consistent with this ordinance. Regulations thus adopted are not enforceable until approved by the Secretary.

Section 3: Any laws, resolutions or ordinances of the Pueblo de Cochiti in conflict with the provisions of this Ordinance are hereby repealed. Specifically, the said Ordinance of May 22, 1966 as amended May 26, 1981 is hereby amended to conform to this Ordinance.

Section 4: In the event any provision of this Ordinance is held to be invalid, or the application of this Ordinance or any provision thereof to any person or circumstances is held to be invalid, the remaining provision for the application of this Ordinance or any provision thereof to other persons or circumstances shall not be affected by such invalidity and to such extent, the terms and provisions of this Ordinance are declared to be severable.

Section 5: Civil Penalties. A. The civil penalty for a violation of this Ordinance by any person shall be a fine as may be established from time to time by the Tribal Council of the Pueblo de Cochiti in addition to any other remedy ordered by the tribal court or tribunal. Repeat violators of this Ordinance may be subject to permanent expulsion from the territorial jurisdiction of the Pueblo de Cochiti as a civil penalty upon notice and a hearing on the matter before a Pueblo de Cochiti tribunal.

B. Because this Ordinance is intended to protect the health, safety or welfare of the people of the Pueblo de Cochiti by prohibiting conduct that directly affects the health, safety and welfare of the Tribe, non-Indian violators, as well as Indian violators, shall be subject to the Pueblo's civil jurisdiction for the enforcement of this Ordinance.

C. For purposes of this Section, “Indian” shall be defined as a person who is a member of a federally recognized tribe, or an Alaskan Native, and who would be an Indian for purposes of 18 U.S.C. 1152 and 1153.

Section 6: Criminal Penalties. A. Violations of 18 U.S.C. 1154 and 1156 by any person may give rise to prosecution by the United States and punishment by a fine or imprisonment, or both, as provided by federal law.

B. Violations of this ordinance by Indians may also be subject to such criminal penalties as may be established from time to time by the Pueblo de Cochiti Tribal Council, subject to the limitations imposed by 25 U.S.C. 1302(7). Repeat violators of this Ordinance may be subject to permanent expulsion from the territorial jurisdiction of Pueblo de Cochiti upon notice and a hearing on the matter before a Pueblo de Cochiti tribunal.

C. For purposes of this Section, “Indian” shall be defined as a person who is a member of a federally recognized tribe, or an Alaskan Native, and who would be an Indian for purposes of 18 U.S.C. 1152 and 1153.

Section 7: The Ordinance shall be effective upon its certification by the Secretary of the Interior and its publication in the Federal Register.

[FR Doc. 01-8884 Filed 4-10-01; 8:45 am]

BILLING CODE 4310-02-P